DEPARTMENT OF ENERGY

Federal Energy Regulatory Commission

[Docket No. EC02-37-000, et al.]

Madison Gas & Electric Company, et al.; Electric Rate and Corporate Regulation Filings

December 27, 2001.

Take notice that the following filings have been made with the Commission. Any comments should be submitted in accordance with Standard Paragraph E at the end of this notice.

1. Madison Gas & Electric Company

[Docket No. EC02-37-000]

Take notice that on December 19, 2001, Madison Gas and Electric Co. (MGE) and MGE Energy, Inc. (MGE Energy) filed an application with the Federal Energy Regulatory Commission (Commission), pursuant to section 203 of the Federal Power Act, for authorization of a disposition of jurisdictional facilities whereby a proposed corporate reorganization would be implemented.

MGE proposes to carry out a reorganization plan, which will result in a holding company structure under which MGE and its utility operation will be a wholly-owned subsidiary of the newly formed MGE Energy.

Comment Date: January 9, 2002.

2. Duke Energy Southaven, LLC

[Docket No. EG02-58-000]

Take notice that on December 20, 2001, Duke Energy Southaven, LLC (Duke Southaven) filed an application with the Federal Energy Regulatory Commission (the Commission) for determination of exempt wholesale generator status pursuant to section 32 of the Public Utility Holding Company Act of 1935, as amended, and part 365 of the Commission's regulations.

Duke Southaven is a Delaware limited liability company that will be engaged directly and exclusively in the business of operating all or part of one or more eligible facilities to be located in Southaven, Mississippi. The eligible facilities will consist of a simple cycle electric generation plant with a nominal capacity of 640 MW and related interconnection facilities. The output of the eligible facilities will be sold at wholesale.

Comment Date: January 17, 2002. The Commission will limit its consideration of comments to those that concern the adequacy or accuracy of the application.

3. Wisconsin Public Service Corporation, WPS Energy Services, Inc., WPS Power Development, Inc. (and its subsidiaries)

[Docket Nos. ER95-1528-006 and ER96-1088-031]

Take notice that on December 20, 2001, Wisconsin Public Service Corporation (WPSC), WPS Energy Services, Inc. (ESI) and WPS Power Development, Inc. (and its subsidiaries) (PDI) (collectively, the WPSR Companies), submitted a three-year update of the justification for their authorization to sell power at market-based rates.

The WPSR Companies state that copies of this filing have been served on the Public Service Commissions of Wisconsin, Michigan and Maine.

Comment Date: January 10, 2002.

4. Commonwealth Chesapeake Company, LLC

[Docket Nos. ER99-415-004]

Take notice that on December 21, 2001, Commonwealth Chesapeake Company, L.L.C. (Commonwealth Chesapeake) filed with the Federal Energy Regulatory Commission (Commission) an updated market power study in accordance with the Commission's order issued December 21, 1998 in Docket No. ER99-415 conditionally accepting for filing Commonwealth Chesapeake's market-based rate tariff.

Comment Date: January 11, 2002.

5. New York Independent System Operator, Inc.

[Docket Nos. ER00-3591-010 and ER00-1969-012]

Take notice that on December 21, 2001, the New York Independent System Operator, Inc. (NYISO) filed with the Federal Energy Regulatory Commission (Commission) revisions to its Market Administration and Control Area Services Tariff in order to update the references to the formula used to calculate locational reserve prices, pursuant to the Commission's order issued on June 29, 2001, in the above-captioned dockets.

The NYISO has requested an effective date of September 30, 2001, for the filing.

The NYISO has served a copy of this filing upon parties on the official service lists maintained by the Commission for the above-captioned dockets.

Comment Date: January 11, 2002.

6. American Transmission Company LLC

[Docket No. ER01-521-002]

Take notice that on December 21, 2001, American Transmission Company LLC (ATCLLC) tendered for filing a Revised Service Agreement No. 92 with additions to the Generation-Transmission Interconnection Agreement between Wisconsin Electric Power Company and ATCLLC.

ATCLLC requests an effective date of January 1, 2001.

Comment Date: January 11, 2002.

7. Consumers Energy Company

[Docket No. ER01-1587-003]

Take notice that on December 20 2001, Consumers Energy Company (Consumers) tendered for filing with the Federal Energy Regulatory Commission (Commission) under protest the following tariff sheets as part of its FERC Electric Tariff, First Revised Volume No. 6 and the following Service Agreement under that tariff in compliance with the Commission's November 20, 2001 order issued in this proceeding:

Substitute First Revised Sheet Nos. 142 and 171 and Second Substitute Service Agreement No. 62

The sheets are to have an effective date of May 17, 2001. The Service Agreement is to have an effective date of March 21, 2001. Also included in the filing is an extra cover sheet for the Service Agreement reflecting the fact that the Service Agreement was assigned to Michigan Electric Transmission Company, effective April 1, 2001.

Copies of the filing were served upon the Michigan Public Service Commission and those on the official service list in this proceeding.

Comment Date: January 10, 2002.

8. New England Power Company

[Docket No. ER01-2156-002]

Take notice, that on December 21, 2001, New England Power Company (NEP), as successor in interest to Montaup Electric Company (Montaup) submitted for filing an errata to notices of cancellation of Montaup's FERC Electric Tariff, First Revised Volume No. 1 (Montaup Tariff No. 1) and all service agreements thereunder filed on November 8, 2001 in the above-captioned proceeding. The notices of cancellation failed to state that NEP was also canceling all amendments and supplements to Montaup Tariff No. 1.

NEP states that this filing has been served upon all persons designated on the official service list compiled by the Secretary in this proceeding and all parties affected by the cancellation.

Comment Date: January 11, 2002.

9. Mid-Continent Area Power Pool

[Docket Nos. ER01-2189-003, ER01-2744-001, ER01-3003-002, ER01-3011-001 and ER02-112-002]

Take notice that on December 21, 2001, the Mid-Continent Area Power Pool, on behalf of its public utility members, filed a refund report related to orders by the Federal Energy Regulatory Commission in the above-referenced dockets.

A copy of this filing has been served on all parties to the service lists in the above-referenced proceedings and the state commissions in the MAPP region.

Comment Date: January 11, 2002.

10. Mirant Americas Energy Marketing, LP, Mirant Bowline, LLC, Mirant California, LLC, Mirant Canal, LLC, Mirant Chalk Point, LLC, Mirant Delta, LLC, Mirant Kendall, LLC, Mirant Lovett, LLC, Mirant Mid-Atlantic, LLC, Mirant Neenah, LLC, Mirant New England, LLC, Mirant NY-Gen, LLC, Mirant Peaker, LLC, Mirant Potomas River, LLC, Mirant Potereo, LLC, Mirant Zeeland, LLC, State Line Energy, L.L.C.

[Docket No. ER01-3110-001]

Take notice that on December 18, 2001, the captioned parties filed an amendment to their September 24, 2001 filing with the Commission in the captioned docket, in accordance with the Letter Order issued November 20, 2001.

Comment Date: January 8, 2002.

11. Pleasants Energy, LLC

[Docket Nos. ER02-26-001]

Take notice that on December 20, 2001, Pleasants Energy, LLC (Pleasants Energy) tendered for filing a revised Market-Based Rate Tariff, FERC Electric Tariff, Original Volume No. 1 (Revised Tariff) to comply with a letter order issued by the Commission on December 6, 2001 in the above-captioned proceedings (Letter Order). Pleasants Energy, LLC, 97 FERC ¶ 61,259 (2001). The Letter Order allows the Revised Tariff to become effective as of December 1, 2001.

Copies of the filing were served upon the Public Service Commission of West Virginia and the Virginia State Corporation Commission.

Comment Date: January 10, 2002.

12. Carolina Power & Light Company

[Docket No. ER02-52-001]

Take notice that on December 20, 2001, Carolina Power & Light Company (CP&L) filed, pursuant to the Letter Order issued on November 20, 2001 in the above-captioned proceeding, a compliance filing making the required changes to the executed Facility Interconnection and Operating Agreement between CP&L and Dominion Person, Inc.

Comment Date: January 10, 2002.

13. Virginia Electric and Power Company

[Docket No. ER02-63-001]

Take notice that on December 20, 2001, Virginia Electric and Power Company, doing business as Dominion Virginia Power, tendered for filing with the Federal Energy Regulatory Commission (Commission) an executed Generator Interconnection and Operating Agreement (Interconnection Agreement) with Wells Fargo Bank Northwest, National Association (Wells Fargo) that complies with the Commission's November 28, 2001 order (November 28th Order) in this docket. The executed Interconnection Agreement replaces the unexecuted Interconnection Agreement that was filed on October 9, 2001 and was accepted in the November 28th Order.

Dominion Virginia Power respectfully requests that the Commission accept this filing to make the executed Interconnection Agreement effective as of December 10, 2001, the same date the Commission made the unexecuted Interconnection Agreement effective in its November 28th Order.

Copies of the filing were served upon Wells Fargo Bank Northwest, National Association and the Virginia State Corporation Commission.

Comment Date: January 10, 2002.

14. PPL Electric Utilities Corporation

[Docket No. ER02-128-003]

Take notice that on December 18, 2001, PPL Electric Utilities Corporation (PPL Electric) and Williams Generation Company—Hazleton (WGC) filed with the Federal Energy Regulatory Commission (Commission) revisions to the Interconnection Agreement originally filed with the Commission on October 18, 2001, and supplemented on October 23, 2001 and November 26, 2001. PPL Electric and WGC request an effective date of October 19, 2001 for the Interconnection Agreement, as revised.

Comment Date: January 8, 2002.

15. Dominion Nuclear Marketing II, Inc.

[Docket No. ER02-589-000]

Take notice that on December 20, 2001, Dominion Nuclear Marketing II, Inc. (the Company) respectfully tendered for filing with the Federal Energy Regulatory Commission (Commission) the following Service Agreement by Dominion Nuclear Marketing II, Inc. to Aquila Energy Marketing Corporation, designated as Service Agreement No. 6, under the Company's FERC Market-Based Sales Tariff, Original Volume No. 1, effective on November, 24, 2000.

The Company requests an effective date of December 13, 2001, as requested by the customer.

A copy of the filing was served upon Aquila Energy Marketing Corporation, the Virginia State Corporation Commission, and the North Carolina Utilities Commission.

Comment Date: January 10, 2002.

16. Duke Power, a Division of Duke Energy Corporation

[Docket No. ER02-590-000]

Take notice that on December 20, 2001, Duke Power (Duke), a division of Duke Energy Corporation, tendered for filing with the Federal Energy Regulatory Commission (Commission) a Service Agreement under Duke's Wholesale Market-Based Rate Tariff Providing for Sales of Capacity, Energy, or Ancillary Services and Resale of Transmission Rights between Duke and Consumers Energy Company d/b/a Consumers Energy Traders. Duke requests that the proposed Service Agreement be permitted to become effective on December 13, 2001. Duke states that this filing is in accordance with part 35 of the Commission's Regulations, 18 CFR Pt 35, and that a copy has been served on the North Carolina Utilities Commission.

Comment Date: January 10, 2002.

17. PSI Energy, Inc.

[Docket No. ER02-591-000]

Take notice that on December 20, 2001, PSI Energy, Inc. (PSI), tendered for filing the Transmission and Local Facilities (T&LF) Agreement Calendar Year 2000 Reconciliation between PSI and Wabash Valley Power Association, Inc. (WVPA), and between PSI and Indiana Municipal Power Agency (IMPA). The T&LF Agreement has been designated as PSI's Rate Schedule FERC No. 253.

Copies of the filing were served on Wabash Valley Power Association, Inc., the Indiana Municipal Power Agency and the Indiana Utility Regulatory Commission.

Comment Date: January 10, 2002.

18. Wolverine Power Supply Cooperative, Inc.

[Docket No. ES02-18-000]

Take notice that on December 13, 2001, Wolverine Power Supply Cooperative, Inc. (Wolverine), filed with the Federal Energy Regulatory Commission (Commission) an application pursuant to section 204 of the Federal Power Act (16 U.S.C. 824c) seeking authorization to enter into a loan agreement with the National Rural Utilities Cooperative Finance Corporation under which Wolverine would assume up to $22,750,000 in debt, and seeking an exemption from the Commission's competitive bidding and negotiated placement issuance requirements set forth in section 34.2 of the Commission's regulations.

Comment Date: January 11, 2002.

19. American Electric Power Service Corporation

[Docket No. ER01-3141-002]

Take notice that on December 20, 2001, the American Electric Power Service Corporation (AEPSC), tendered for filing with the Federal Energy Regulatory Commission (Commission) amended service agreements in compliance with the Commission's November 20, 2001 Order Accepting Transmission Service Agreements, as Modified, 97 FERC ¶ 61,207.

AEPSC requests an effective date of September 1, 2001. A copy of the filing was served upon the Parties and the state utility regulatory commissions of Arkansas, Indiana, Kentucky, Louisiana, Michigan, Ohio, Oklahoma, Tennessee, Texas, Virginia and West Virginia.

Comment Date: January 10, 2002.

20. Nevada Power Company

[Docket No. ER01-3149-002]

Take notice that on December 21, 2001, Nevada Power Company (Nevada Power) filed with the Federal Energy Regulatory Commission (Commission) pursuant to the Commission's Order issued in the above-referenced docket, a compliance filing making revisions to the unexecuted Interconnection and Operation Agreement between Nevada Power and Mirant Las Vegas, LLC.

Comment Date: January 11, 2002.

21. NU Operating Companies

[Docket No. ER02-217-001]

Take notice that on December 21, 2001, in compliance with the Federal Energy Regulatory Commission's (Commission) unreported letter order dated December 4, 2001 in the above-captioned proceeding, Northeast Utilities Service Company, on behalf of the Connecticut Light and Power Company, Western Massachusetts Electric Company, Holyoke Water Power Company, Holyoke Power and Electric Company, and Public Service Company of New Hampshire, tendered for filing the corrected designation for NUSCO's market-based rate tariff, designated FERC Electric Tariff Third Revised Volume No. 7.

Comment Date: January 11, 2002.

22. Cambridge Electric Light Company, Central Maine Power Company, The Connecticut Light and Power Company, New England Power Company, Public Service Company of New Hampshire, and Western Massachusetts Electric Company

[Docket No. ER02-505-002]

Take notice that on December 20, 2001, Cambridge Electric Light Company, Central Maine Power Company, The Connecticut Light and Power Company, New England Power Company, Public Service Company of New Hampshire, and Western Massachusetts Electric Company (the Sponsors) submitted submit for filing a supplement to the Notice of Cancellations filed in this docket on December 7, 2001. The supplement gives notice of cancellation of a power contract between The Connecticut Light and Power Company (Connecticut Light) and Connecticut Municipal Electric Energy Cooperative (CMEEC). The contract to be canceled is The Connecticut Light and Power Company, Rate Schedule FERC No. 221.

Notice of the proposed cancellation has been served upon each person designated on the official service list for this proceeding and all affected customers.

Comment Date: January 10, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-171 Filed 1-3-02; 8:45 am]

BILLING CODE 6717-01-P